DEPARTMENT OF ENERGY

Federal Energy Regulatory Commission

Combined Notice of Filings #1

Take notice that the Commission received the following electric corporate filings:

Docket Numbers: EC16-99-000.

Applicants: Westar Energy, Inc.

Description: Application for Authorization for Consolidation of Jurisdictional Facilities and Request for Expedited Action and Certain Waivers of Westar Energy, Inc.

Filed Date: 4/12/16.

Accession Number: 20160412-5112.

Comments Due: 5 p.m. ET 5/3/16.

Take notice that the Commission received the following electric rate filings:

Docket Numbers: ER16-1379-000.

Applicants: Midcontinent Independent System Operator, Inc.

Description: Section 205(d) Rate Filing: 2016-04-11_SA 2914 Northern States Power-Ashtabula Wind IV FCA (C019) to be effective 4/12/2016.

Filed Date: 4/11/16.

Accession Number: 20160411-5260.

Comments Due: 5 p.m. ET 5/2/16.

Docket Numbers: ER16-1380-000.

Applicants: Rocky Mountain Reserve Group.

Description: Tariff Cancellation: RMRG Cancellation 20160411 to be effective 4/14/2016.

Filed Date: 4/11/16.

Accession Number: 20160411-5279.

Comments Due: 5 p.m. ET 5/2/16.

Docket Numbers: ER16-1381-000.

Applicants: Nevada Power Company.

Description: Initial rate filing: Rate Schedule No. 152 NPC and MGM EPC Agreement to be effective 4/13/2016.

Filed Date: 4/12/16.

Accession Number: 20160412-5005.

Comments Due: 5 p.m. ET 5/3/16.

Docket Numbers: ER16-1382-000.

Applicants: Midcontinent Independent System Operator, Inc.

Description: Section 205(d) Rate Filing: 2016-04-12_SA 2916 Prairie Power-Prairie Power GIA (J291) to be effective 4/13/2016.

Filed Date: 4/12/16.

Accession Number: 20160412-5075.

Comments Due: 5 p.m. ET 5/3/16.

Docket Numbers: ER16-1383-000.

Applicants: Southwest Power Pool, Inc.

Description: Section 205(d) Rate Filing: 3193 Rush County Wind Farm GIA to be effective 3/22/2016.

Filed Date: 4/12/16.

Accession Number: 20160412-5115.

Comments Due: 5 p.m. ET 5/3/16.

Docket Numbers: ER16-1384-000.

Applicants: Southern California Edison Company.

Description: Section 205(d) Rate Filing: GIA and Distribution Service Agmt EUI Wind Park I Project to be effective 4/1/2016.

Filed Date: 4/12/16.

Accession Number: 20160412-5118.

Comments Due: 5 p.m. ET 5/3/16.

Docket Numbers: ER16-1385-000.

Applicants: Southern California Edison Company.

Description: Section 205(d) Rate Filing: GIA and Distribution Service Agmt EUI Wind Park II Project to be effective 4/1/2016.

Filed Date: 4/12/16.

Accession Number: 20160412-5119.

Comments Due: 5 p.m. ET 5/3/16.

Docket Numbers: ER16-1386-000.

Applicants: PJM Interconnection, L.L.C.

Description: Section 205(d) Rate Filing: Amendment to ISA No. 3324, Queue No. V1-028 per an Assignment to DIV—AR to be effective 5/2/2012.

Filed Date: 4/12/16.

Accession Number: 20160412-5121.

Comments Due: 5 p.m. ET 5/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2016.
Nathaniel J. Davis, Sr.,
Deputy Secretary.

[FR Doc. 2016-08922 Filed 4-18-16; 8:45 am]

BILLING CODE 6717-01-P